DEPARTMENT OF AGRICULTURE

Rural Utilities Service

[Docket No.: RUS-23-TELECOM-0014]

60-Day Notice of Proposed Information Collection: Lien Accommodation and Subordination Policy; OMB Control No.: 0572-0126

AGENCY: Rural Utilities Service, USDA.

ACTION: Notice; request for comments.

SUMMARY: In accordance with the Paperwork Reduction Act of 1995, the United States Department of Agriculture (USDA) Rural Utilities Service (RUS) announces its' intention to request a revision of a currently approved information collection and invites comments on this information collection.

DATES: Comments on this notice must be received by December 19, 2023 to be assured of consideration.

ADDRESSES: Comments may be submitted by the Federal eRulemaking Portal: Go to http://www.regulations.gov and, in the “Search Field” box, labeled “Search for dockets and documents on agency actions,” enter the following docket number: (RUS-23-TELECOM-0014), and click “Search.” To submit public comments, select the “Comment” button. Before inputting your comments, you may also review the “Commenter's Checklist” (optional). Insert your comments under the “Comment” title, click “Browse” to attach files (if applicable). Input your email address and select an identity category then click “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, United States Department of Agriculture, 1400 Independence Avenue SW, South Building, Washington, DC 20250-1522. Telephone: (202) 720-7853. Email: MaryPat.Daskla@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for extension.

Title: 7 CFR part 1744, subpart B, Lien Accommodations and Subordination Policy.

OMB Control Number: 0572-0126.

Expiration Date of Approval: February 29, 2024.

Type of Request: Revision of a currently approved information collection.

Estimate of Burden: Public reporting for this collection of information is estimated to average .5 hours per response.

Respondents: Businesses or other for-profits.

Estimated Number of Respondents: 12.

Estimated Number of Responses: 36.

Estimated Number of Responses per Respondent: 3.

Estimated Total Annual Burden on Respondents: 18.

Abstract: RUS borrowers and other organizations providing telecommunications in rural areas, due to changes in the telecommunications industry, including deregulation and technological developments, may consider undertaking projects that provide new telecommunications services and other telecommunications services not ordinarily financed by RUS. Although some of these services may not be eligible for financing under the Rural Electrification Act of 1936 (RE Act), the services may nevertheless advance RE Act objectives where the borrower obtains financing from private lenders. To facilitate the financing of those projects and services, this program assists in facilitating funding from non- RUS sources in order to meet the growing capital needs of rural Local Exchange Carriers (LECs).

The information collected for lien accommodation requests is used by RUS to ascertain a borrower's level of financial strength and, upon agency approval of the lien accommodation, ensures that the government's loan security interest is protected.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent by the Federal eRulemaking Portal: Go to https://www.regulations.gov. Follow the instructions for submitting comments.

Copies of this information collection can be obtained from Kimble Brown, Innovation Center—Regulations Team, at (202) 720-6780, or email: kimble.brown@usda.gov.

All responses to this notice will be summarized and included in the request for OMB approval. All comments will also become a matter of public record.

Andrew Berke,
Administrator, Rural Utilities Service.

[FR Doc. 2023-23160 Filed 10-19-23; 8:45 am]

BILLING CODE 3410-XV-P